DEPARTMENT OF THE INTERIOR

Fish and Wildlife Service

[FWS R1-R-2010-N223; 1265-0000-10137-S3]

Grays Harbor National Wildlife Refuge (NWR) and Black River Unit of Nisqually NWR; Comprehensive Conservation Plans and Environmental Assessments

AGENCY: Fish and Wildlife Service, Interior.

ACTION: Notice of intent; request for comments.

SUMMARY: We, the U.S. Fish and Wildlife Service (Service), intend to prepare comprehensive conservation plans (CCP) for Grays Harbor National Wildlife Refuge (Refuge) and Nisqually National Wildlife Refuge's Black River Unit (Unit) (collectively, Refuges). We will also prepare environmental assessments (EA) to evaluate the environmental effects of the CCPs' various alternatives. We provide this notice in compliance with our CCP policy to advise the public, other Federal and State agencies, and Tribes, of our intentions, and to obtain public comments, suggestions, and information on the scope of issues to consider in the planning process.

DATES: To ensure consideration, please send your written comments by July 8, 2011.

ADDRESSES: Information about the Refuge Units is available on our Web sites: http://www.fws.gov/graysharbor/ and http://www.fws.gov/nisqually/management/bru_general.html. Send your comments or requests for information by any of the following methods.

E-mail: FW1PlanningComments@fws.gov. Include “Grays Harbor/Black River CCPs” in the subject line of the message.

Fax: Attn: Jean Takekawa, Project Leader, (360) 534-9302.

U.S. Mail: Project Leader, Nisqually National Wildlife Refuge Complex, 100 Brown Farm Road, Olympia, WA 98516.

FOR FURTHER INFORMATION CONTACT: Jean Takekawa, (360) 753-9467.

SUPPLEMENTARY INFORMATION:

Introduction

With this notice, we initiate our process for developing the Refuges' CCPs/EAs. This notice complies with our CCP policy to (1) Advise the public, other Federal and State agencies, and Tribes of our intention to conduct detailed planning on the Refuges; and (2) obtain suggestions and information on the scope of issues to consider in the EAs and during development of the CCPs.

Background

The CCP Process

The National Wildlife Refuge System Administration Act of 1966 (16 U.S.C. 668dd-668ee) (Refuge Administration Act), as amended by the National Wildlife Refuge System Improvement Act of 1997, requires us to develop a CCP for each national wildlife refuge. The purpose for developing a CCP is to provide refuge managers with a 15-year plan for achieving refuge purposes and contributing toward the mission of the National Wildlife Refuge System (Refuge System), consistent with sound principles of fish and wildlife management, conservation, legal mandates, and our policies. In addition to outlining broad management direction on conserving wildlife and their habitats, CCPs identify compatible wildlife-dependent recreational opportunities available to the public, including opportunities for hunting, fishing, wildlife observation and photography, and environmental education and interpretation. We will review and update the CCPs at least every 15 years in accordance with the Refuge Administration Act.

Each unit of the Refuge System was established for specific purposes. We use these purposes as the foundation for developing and prioritizing the management goals and objectives for each refuge within the Refuge System mission, and to determine how the public can use each refuge. The planning process is a way for us and the public to evaluate management goals and objectives that will ensure the best possible approach to wildlife, plant, and habitat conservation, while providing for wildlife-dependent recreation opportunities that are compatible with each refuge's establishing purposes and the mission of the Refuge System.

Our CCP process provides participation opportunities for Tribal, State, and local governments; agencies; organizations; and the public. At this time we encourage input in the form of issues, concerns, ideas, and suggestions for the future management of the Refuges.

We will conduct the environmental review of this project and develop EAs in accordance with the requirements of the National Environmental Policy Act of 1969, as amended (NEPA) (42 U.S.C. 4321 et seq.); NEPA regulations (40 CFR parts 1500-1508); other appropriate Federal laws and regulations; and our policies and procedures for compliance with those laws and regulations.

The Refuges

Grays Harbor National Wildlife Refuge

The Refuge's approved boundary encompasses 1,500 acres of estuary and uplands in Grays Harbor County, WA; of this, the Service owns approximately 1,411 acres, and leases 63 acres from the Port of Grays Harbor. The Refuge was established in 1990 for the following purposes.

• To conserve fish and wildlife populations and their habitats, including but not limited to western sandpiper, dunlin, red knot, long-billed dowitcher, short-billed dowitcher, and other shorebirds and migratory birds, including birds of prey.

• To fulfill U.S. international treaty obligations with regard to fish and wildlife and their habitats.

• To conserve those species known to be threatened with extinction.

• To provide opportunities, consistent with the Refuge's wildlife conservation purposes, for wildlife-oriented recreation, education, and research.

• For the development, advancement, management, conservation, and protection of fish and wildlife resources.

• For the benefit of the Service, in performing its activities and services.

The Refuge encompasses an area known as Bowerman Basin. Refuge habitats include open tidal water, intertidal mudflats, tidal salt and brackish marshes, and forests. The Refuge provides important migratory habitat for western sandpiper, dunlin, semi-palmated and black-bellied plover, red knot, short-billed dowitcher, greater yellowlegs, and other shorebird species; common loon, red-breasted and common mergansers, Caspian tern, gulls, double-crested cormorants, and other waterbirds; American wigeon, northern pintail, gadwall, American green-winged teal, bufflehead, mallard, and other ducks; Canada, cackling, white-fronted, and other geese; bald eagle, peregrine falcon, merlin, northern harrier, and other raptors; and many neotropical migratory birds.

Preliminary Issues, Concerns, and Opportunities

The following preliminary issues, concerns, and opportunities have been identified for the Refuge, and may be evaluated in the CCP. Additional issues may be identified during public scoping.

• Habitat management and restoration. What management actions are needed to sustain and restore priority species and habitats over the next 15 years? How is the quality of the Refuge's shorebird habitat being impacted by sedimentation? What effects will climate change and sea level rise have on Refuge habitats and species?

• Invasive species control. Invasive species degrade habitat for shorebirds, migratory birds, and many other fish and wildlife. How can we reduce the incidence and spread of invasive species?

• Visitor experiences and education opportunities. Wildlife observation, interpretation, and photography, and environmental education are provided at the Refuge. How can we improve these programs? What visitor facilities are needed? What volunteer programs and partnerships can we develop to improve outreach and education? How can we reduce trespassing, vandalism, and other illegal activities on the Refuge, and improve wildlife and habitat protection?

Black River Unit

The Unit is located southwest of Olympia, WA. The Unit's approved boundary encompasses approximately 3,960 acres. The Service currently owns and manages more than 1,300 acres within the approved boundary, and land acquisition activities are ongoing as willing sellers come forward. The Unit was established in 1996 for the following purposes.

• For use as an inviolate sanctuary, or for any other management purpose, for migratory birds.

• For the development, advancement, management, conservation, and protection of fish and wildlife resources.

• For the benefit of the Service, in performing its activities and services.

The Unit consists of a large, complex mosaic of mostly wetland and riparian habitats, and some upland habitats surrounding the low-lying river. Its habitats include the Black River and tributary instream channels, bog (a rare habitat locally), shrub swamp, riparian forest, emergent marsh, wet and dry meadows, and fir-hemlock forest. Both the upper Black River and associated wetlands are unusual features in the Puget Trough. The Unit contains rearing habitat and migration corridors for steelhead, coastal cutthroat trout, and coho and Chinook salmon. At least 150 species of migratory birds, including waterfowl, marshbirds, and neotropical songbirds, use the wetland and riparian habitats. One Federally listed candidate species, the Oregon spotted frog (which is also State listed as endangered), is found within the Unit. The Oregon spotted frog is known to occur at only a few locations in Washington; three of those locations fall within the Unit's approved boundary.

Scoping: Preliminary Issues, Concerns, and Opportunities

We have identified preliminary issues, concerns, and opportunities for the Unit that we may address in the CCP. We have briefly summarized these issues below. During public scoping we may identify additional issues.

• Land and water protection. What management actions are needed to sustain and restore priority species and habitats, improve habitat protection and connectivity, and reduce habitat fragmentation? What are our options for improving water quality and quantity for fish and wildlife in the Black River system?

• Habitat management and restoration. How can we obtain the data we need, regarding key species and habitat composition, to restore degraded habitats and protect fish and wildlife species? How will climate change and sea level rise affect the Unit's habitats and species? How can we enhance our recovery efforts for the Oregon spotted frog?

• Invasive species control. How can we reduce the incidence and spread of invasive species on the Unit?

• Visitor services and education opportunities. What wildlife-dependent public uses should we consider at the Unit? How can we reduce trespassing, vandalism, and illegal activities on the Unit and improve wildlife and habitat protection?

Public Meetings

Public meetings will be announced in press releases, planning updates, and on our Web sites: http://www.fws.gov/graysharbor/ and http://www.fws.gov/nisqually/management/bru_general.html.

Public Availability of Comments

Before including your address, phone number, e-mail address, or other personal identifying information in your comment, you should be aware that your entire comment—including your personal identifying information—may be made publicly available at any time. While you can ask us in your comment to withhold your personal identifying information from public review, we cannot guarantee that we will be able to do so.

Dated: May 4, 2011.
Robyn Thorson,
Regional Director, Region 1, Portland, Oregon.

[FR Doc. 2011-14208 Filed 6-7-11; 8:45 am]

BILLING CODE 4310-55-P